DEPARTMENT OF COMMERCE

National Oceanic and Atmospheric Administration

[I.D. 051303B]

New England Fishery Management Council; Public Meetings

AGENCY: National Marine Fisheries Service (NMFS), National Oceanic and Atmospheric Administration (NOAA), Commerce

ACTION: Notice of public meetings.

SUMMARY: The New England Fishery Management Council (Council) is scheduling a public meeting of its Enforcement Oversight Committee and Advisory Panel and a Joint Meeting of its Herring Oversight and Advisory Panel in June, 2003 to consider actions affecting New England fisheries in the exclusive economic zone (EEZ). Recommendations from these groups will be brought to the full Council for formal consideration and action, if appropriate.

DATES: The meetings will be held on June 2 and June 3, 2003. See SUPPLEMENTARY INFORMATION for specific dates and times.

ADDRESSES: The meetings will be held in Portsmouth, NH and Portland, ME. See SUPPLEMENTARY INFORMATION for specific locations.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Monday, June 2, 2003 at 9:30 a.m.-Enforcement Oversight and Advisory Panel Meeting.

Location: Urban Forestry Center, 45 Elwyn Road, Portsmouth, NH 03801; telephone: (603) 431-6774.

The committee will review habitat enforcement analyses for groundfish, scallops, and monkfish. The committee will also discuss the enforcement aspects of allowing fishing vessels to land fish, harvested on the same trip, at multiple ports. Finally, the committee will discuss any other business that comes before it.

Tuesday, June 3, 2003 at 9:30 a.m.-Joint Herring Oversight Committee and Advisory Panel Meeting.

Location: Holiday Inn by the Bay, 88 Spring Street, Portland, ME 04101; telephone: (207) 775-2311.

The panels will review the May 29, 2003 Plan Development Team (PDT) Report. They will develop goals and objectives for Amendment 2 to the Herring Fishery Management Plan. They will also begin development of alternatives for Amendment 2 and provide guidance to the Herring PDT.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: May 13, 2003.
Richard W. Surdi,
Acting Director, Office of Sustainable Fisheries, National Marine Fisheries Service.

[FR Doc. 03-12468 Filed 5-16-03; 8:45 am]

BILLING CODE 3510-22-S